DEPARTMENT OF COMMERCE

National Oceanic and Atmospheric Administration

[RTID 0648-XE464]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day hybrid meeting with both in-person and remote participation to consider actions affecting New England fisheries in the exclusive economic zone (EEZ).

DATES: The meeting will be held on Tuesday, December 3, 2024, through Thursday, December 5, 2024, beginning at 9 a.m. all three days.

ADDRESSES: The meeting will take place at the Hotel Viking, One Bellevue Avenue, Newport, RI 02840; telephone: (844) 806-4895; online at https://www.hotelviking.com. Join the webinar at https://attendee.gotowebinar.com/register/5989195310725579095.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Tuesday, December 3, 2024

After brief announcements, the Council will receive reports on recent activities from its Chair and Executive Director, the Greater Atlantic Regional Fisheries Office (GARFO) Regional Administrator, the Northeast Fisheries Science Center (NEFSC) Director, the NOAA Office of General Counsel, the Mid-Atlantic Fishery Management Council liaison, and representatives from the Atlantic States Marine Fisheries Commission (ASMFC), the U.S. Coast Guard, NOAA's Office of Law Enforcement, and the Northwest Atlantic Fisheries Organization (NAFO). Next, the Council will hear remarks from the NOAA Fisheries Deputy Administrator for Regulatory Programs and have an opportunity to ask questions. It then will receive an overview of the NOAA Fisheries Equity and Environmental Justice (EEJ) Implementation Plan for the New England/Mid-Atlantic Region. Up next will be a progress report on the Council's climate, ecosystem, and Inflation Reduction Act (IRA) initiatives entailing: (1) an update on the membership and upcoming activities of the new Climate and Ecosystem Steering Committee, including coordination with NEFSC's Climate, Ecosystems, and Fisheries Initiative (CEFI) and the Council's IRA-funded projects; and (2) a report on the October 2024 meeting of the East Coast Climate Coordination Group (E3CG) and the group's planned work for 2025. NOAA General Counsel will provide a briefing on disclosure of financial interests and voting recusal regulations for regional fishery management council members.

Following the lunch break, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. Next, NOAA Fisheries will provide a presentation on the proposed rule for electronic reporting requirements for Atlantic Highly Migratory Species. The Enforcement Committee then will offer input on the On-Demand Fishing Gear Conflict Working Group's recommendations for changes to gear-marking regulations for three Council-managed fixed-gear fisheries: Northeast multispecies (groundfish), monkfish, and Atlantic deep-sea red crab. Representatives from the Woods Hole Oceanographic Institution (WHOI) will provide a presentation on WHOI's project titled “Locking Away Carbon on the Northeast Shelf and Slope” (LOC-NESS). Lastly, the Council will receive a report on the Eighth National Scientific Coordination Subcommittee (SCS8), as well as follow-ups by the Council Coordination Committee and the New England Council's Scientific and Statistical Committee (SSC). Following the adjournment of official business, the Council will host a public outreach session to foster open lines of communication among Council members, staff, industry, and all meeting attendees. This event will be held in the same hotel as the meeting itself—the Hotel Viking in Newport, RI.

Wednesday, December 4, 2024

The Council will begin the second day of its meeting with a discussion of 2025 spiny dogfish specifications, which will include: (1) a review of recommendations from the Spiny Dogfish Committee, Spiny Dogfish Monitoring Committee, the Mid-Atlantic Council's SSC, and the Spiny Dogfish Advisory Panel; (2) a review of previously adopted 2025 specifications and management measures; and (3) consideration of whether any changes are needed. The Northeast Fisheries Science Center then will provide a summary of the September 2024 Management Track Stock Assessments for American plaice, Gulf of Maine haddock, Georges Bank haddock, Atlantic pollock, witch flounder, and Atlantic halibut. The Scientific and Statistical Committee chair then will provide the SSC's overfishing limit (OFL) and acceptable biological catch (ABC) recommendations for Atlantic sea scallops, witch flounder, American plaice, Gulf of Maine haddock, Georges Bank haddock, pollock, and Atlantic halibut.

Following the lunch break, the Council will review, discuss, and approve the Transboundary Management Guidance Committee's (TMGC) recommendations for 2025 total allowable catches (TACs) for three shared U.S./Canada groundfish resources on Georges Bank—Eastern Georges Bank cod, Eastern Georges Bank haddock, and Georges Bank yellowtail flounder. The Groundfish Committee report will follow. The Council will take final action on Framework Adjustment 69 to the Northeast Multispecies (Groundfish) Fishery Management Plan, which will: (1) set specifications for several groundfish stocks for fishing years 2025-2027; (2) set U.S./Canada TACs for 2025; (3) incorporate revisions to scallop fishery flatfish accountability measure (AM) triggers; and (4) set measures to address Phase 1 of the Council's Atlantic cod management transition plan. The Council then will adjourn for the day.

Thursday, December 5, 2024

The Council will lead off the third day of its meeting with the Scallop Committee report and take final action on Framework Adjustment 39 to the Atlantic Sea Scallop Fishery Management Plan. Framework 39 includes: (1) 2025 fishing year specifications; (2) 2026 default specifications; (3) revisions to Scallop Access Area II seasonal closures to reduce flatfish bycatch and improve scallop yield; and (4) measures to allow Northern Gulf of Maine (NGOM) permit holders fishing on directed scallop trips in the NGOM Management Area to possess scallops south of 42°20′. The Council then will receive an overview of the NOAA Fisheries National Seafood Strategy Implementation Plan. Following this presentation, the Council will discuss and take final action on 2025 Council Priorities for all fishery management plans and other Council responsibilities before closing out the meeting with other business.

Although non-emergency issues not contained on this agenda may come before the Council for discussion, those issues may not be the subject of formal action during these meetings. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

These meetings are physically accessible to people with disabilities. Requests for sign language interpretation or other auxiliary aids should be directed to Executive Director Cate O'Keefe (see ADDRESSES) at least 5 days prior to the meeting date.

Authority: 16 U.S.C. 1801 et seq.

Dated: November 8, 2024.
Alyssa Weigers,
Acting Deputy Director, Office of Sustainable Fisheries, National Marine Fisheries Service.

[FR Doc. 2024-26501 Filed 11-13-24; 8:45 am]

BILLING CODE 3510-22-P